NATIONAL FOUNDATION OF THE ARTS AND THE HUMANITIES

Sunshine Act Meeting of the National Museum and Library Services Board

AGENCY: Institute of Museum and Library Services (IMLS), NFAH.

ACTION: Notice of meeting.

SUMMARY: This notice sets forth the agenda of the forthcoming meeting of the National Museum and Library Services Board. This notice also describes the function of the Board. Notice of the meeting is required under the Sunshine in Government Act.

DATES: Wednesday, May 24, 2017, from 9:00 a.m. to 12:15 p.m. and 1:15 p.m. to 2:30 p.m. EST.

ADDRESSES: The meeting will be held at the IMLS Offices, Panel Room, Suite 4000, 955 L'Enfant Plaza North SW., Washington, DC 20024.

FOR FURTHER INFORMATION CONTACT: Katherine Maas, Program Specialist, Institute of Museum and Library Services, Suite 4000, 955 L'Enfant Plaza North SW., Washington, DC 20024. Telephone: (202) 653-4798.

SUPPLEMENTARY INFORMATION: The National Museum and Library Services Board, which advises the Director of the Institute of Museum and Library Services on general policies with respect to the duties, powers, and authority of the Institute relating to museum, library and information services, will meet on May 24, 2017. The Executive Session on Wednesday, May 24, 2017, from 1:15-2:30 p.m. will be closed pursuant to subsections (c)(4) and (c)(9) of section 552b of Title 5, United States Code because the Board will consider information that may disclose: Trade secrets and commercial or financial information obtained from a person and privileges or confidential; and information the premature disclosure of which would be likely to significantly frustrate implementation of a proposed agency action. The meeting from 9:00 a.m. to 12:15 p.m. on Wednesday, May 24, 2017, is opened to the public. If you need special accommodations due to a disability, please contact: Institute of Museum and Library Services, 955 L'Enfant Plaza North SW., Suite 4000, Washington, DC 20024, Telephone: (202) 653-4796, at least seven (7) days prior to the meeting date.

Agenda: Thirty-Fifth Meeting of the National Museum and Library Service Board Meeting: 9:00 a.m.-12:15 p.m. Thirty-Fifth Meeting of the National Museum and Library.

Service Board Meeting

I. Welcome and Director's Report

II. Approval of Minutes

III. Financial and Operations Update

IV. Board Program—IMLS Initiative, “Community Salute: Libraries and Museums Serving Veterans and Military Families.”

V. Office of Museum Services Report

VI. Office of Library Report

VII. Office of Digital and Information Strategy Report

VIII. Board Program—Lightening Talks on IMLS Area of Program Emphasis

IX. Adjourn

(Open to the Public)

1:15 p.m. to 2:30 p.m. Executive Session

(Closed to the Public)

Dated: May 9, 2017.
Nancy E. Weiss,
General Counsel.

[FR Doc. 2017-10574 Filed 5-18-17; 4:15 pm]

BILLING CODE 7036-01-P